DEPARTMENT OF HEALTH AND HUMAN SERVICES

Centers for Medicare & Medicaid Services

[CMS-4070-N]

Medicare Program; Request for Nominations for the Advisory Panel on Medicare Education

AGENCY: Centers for Medicare & Medicaid Services (CMS), HHS.

ACTION: Notice.

SUMMARY: This notice requests nominations for individuals to serve on the Advisory Panel on Medicare Education (the Panel). The Panel advises and makes recommendations to the Secretary of the Department of Health and Human Services and the Administrator of the Centers for Medicare & Medicaid Services (CMS), on opportunities for CMS to optimize the effectiveness of the National Medicare Education Program and other CMS programs that help Medicare beneficiaries understand the Medicare program and the range of Medicare health plan options available under the Medicare+Choice and Medicare Advantage Program.

EFFECTIVE DATE: Nominations will be considered if we receive them at the appropriate address, provided below, no later than 5 p.m. on March, 19, 2004.

ADDRESSES: Mail or deliver nominations to the following address: Lynne G. Johnson, Center for Beneficiary Choices, Centers for Medicare & Medicaid Services, 7500 Security Boulevard, S2-23-05, Baltimore MD, 21244-1850.

FOR FURTHER INFORMATION CONTACT: Lynne G. Johnson, Health Insurance Specialist, Division of Partnership Development, Center for Beneficiary Choices, Centers for Medicare & Medicaid Services, 7500 Security Boulevard, S2-23-05, Baltimore, MD, 21244-1850, (410) 786-0090. Please refer to the CMS Advisory Committees Information Line (1-877-449-5659 toll free) (410-786-9379 local) or the Internet (http://www.cms.hhs.gov/faca/apme/default.asp) for additional information and updates on committee activities, or contact Ms. Johnson via e-mail at ljohnson3@cms.hhs.gov. Press inquiries are handled through the CMS Press Office at (202) 690-6145.

SUPPLEMENTARY INFORMATION: Section 222 of the Public Health Service Act, as amended, grants to the Secretary of the Department of Health and Human Services (the Secretary) the authority to establish an advisory panel if the Secretary finds the panel necessary and in the public interest. The Secretary signed the charter establishing this Panel on January 21, 1999 and the charter renewing the Panel on January 18, 2003. The Advisory Panel on Medicare Education advises the Department of Health and Human Services and the Centers for Medicare & Medicaid Services on opportunities to enhance the effectiveness of consumer education materials serving the Medicare program.

The goals of the Panel are to provide advice on the following:

• Developing and implementing a national Medicare education program that describes the options for selecting health plans and prescription drug benefits under Medicare.

• Enhancing the Federal government's effectiveness in informing the Medicare consumer, including the appropriate use of public-private partnerships.

• Expanding outreach to vulnerable and underserved communities, including racial and ethnic minorities, in the context of a national Medicare education program.

• Assembling an information base of best practices for helping consumers evaluate health plan options and building a community infrastructure for information, counseling, and assistance.

The Panel must consist of a maximum of 20 members. The Chair must either be appointed from among the 20 members, or a Federal official will be designated to serve as the Chair. The charter requires that meetings must be held approximately four times per year. Members will be expected to attend all meetings. The members and the Chair must be selected from authorities knowledgeable in the fields of senior citizen advocacy; outreach to minority communities; health communications; disease-related health advocacy; disability policy and access; health economics research; health insurers and plans; providers and clinicians; and matters of labor and retirement; and from representatives of the general public.

This notice is an invitation to interested organizations or individuals to submit their nominations for membership on the Panel. Current members whose terms expire in 2004 will be considered for reappointment, if renominated, subject to committee service guidelines. The Secretary, or his designee, will appoint new members to the Panel from among those candidates determined to have the expertise required to meet specific agency needs, and in a manner to ensure an appropriate balance of membership.

Each nomination must state that the nominee has expressed a willingness to serve as a Panel member and must be accompanied by a short resume or description of the nominee's experience. In order to permit an evaluation of possible sources of conflict of interest, potential candidates will be asked to provide detailed information concerning such matters as financial holdings, consultancies, and research grants or contracts. Self-nominations also will be accepted.

Authority: (Section 222 of the Public Health Service Act (42 U.S.C. 217(a)) and section 10(a) of Pub. L. 92-463 (5 U.S.C. App. 2, section 10(a) and 41 CFR 102-3) (Catalog of Federal Domestic Assistance Program No. 93.773, Medicare—Hospital Insurance Program; and Program No. 93.774, Medicare—Supplementary Medical Insurance Program)

Dated: February 24, 2004.
Dennis G. Smith,
Acting Administrator, Centers for Medicare & Medicaid Services.

[FR Doc. 04-4383 Filed 2-26-04; 8:45 am]

BILLING CODE 4120-01-P